DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following Federal Committee meeting.

Name: Advisory Committee on Immunization Practices (ACIP).

Times and Dates: 8 a.m.-6 p.m., February 21, 2007, 8 a.m.—4 p.m., February 22, 2007.

Place: Centers for Disease Control and Prevention, 1600 Clifton Road, NE., Global Communications Center, Building 19, Room 232, Atlanta, Georgia 30333.

Status: Open to the public, limited only by the space available. Meeting space accommodates approximately 330 people. Overflow space for real-time viewing will be available.

Purpose: The Committee is charged with advising the Director, CDC, on the appropriate uses of immunizing agents. In addition, under 42 U.S.C. § 1396s, the Committee is mandated to establish and periodically review and, as appropriate, revise the list of vaccines for administration to vaccine-eligible children through the Vaccines for Children (VFC) program, along with schedules regarding the appropriate periodicity, dosage, and contraindications applicable to the vaccines.

Matters to be Discussed: The agenda will include discussions on influenza vaccine; immunization safety; update on use of rotavirus vaccine; update on use of HPV vaccine; update on use of herpes zoster (shingles) vaccine; vaccine supply; Japanese encephalitis and other flavivirus vaccines (e.g., yellow fever vaccine); diphtheria, tetanus, pertussis, polio, Haemophilus B [Hib] combination vaccine (Pentacel®); evidence-based recommendations; and agency updates.

Agenda items are subject to change as priorities dictate.

Additional Information: In order to expedite the security clearance process at the CDC Roybal Campus located on Clifton Road, all ACIP attendees are required to register on line at www.cdc.gov/nip/acip, which can be found at the “Upcoming Meetings” tab. Please complete all the required fields before submitting your registration and submit no later than January 18, 2007.

Please Note: In addition to completing the registration form on line, as described above, all non-U.S. citizens are required to complete the “Access Request Form.” The completed access request form should be sent by e-mail directly to Ms. Gardner at dgardner@cdc.gov.

Contact Person for More Information: Demetria Gardner, Immunization Services Division, National Center for Immunization and Respiratory Diseases, CDC, 1600 Clifton Road, NE, (E-05), Atlanta, Georgia 30333, telephone 404/639-8836, fax 404/639-6258.

The Director, Management Analysis and Services Office, has been delegated the authority to sign Federal Register notices pertaining to announcements of meetings and other committee management activities for both the CDC and ATSDR.

Dated: December 1, 2006.
Alvin Hall,
Director, Management Analysis and Services Office Centers for Disease Control and Prevention.

[FR Doc. E6-20859 Filed 12-7-06; 8:45 am]

BILLING CODE 4163-18-P